Proclamation 8509 of April 29, 2010

National Physical Fitness and Sports Month, 2010

By the President of the United States of America

A Proclamation

The 2010 Winter Olympics inspired people around the globe as they watched elite athletes push their bodies to the limit. Olympic competition showcases the vibrancy that physical activity can add to a person’s life. Exercise strengthens both body and mind, and maintaining good health can help prevent injury and disease. Americans of every age, background, and ability can weave activity into their daily habits to improve their mental and physical wellbeing. This month, we celebrate fitness, sports, and outdoor recreation as both healthy activities and cherished national traditions.

Exercise can help prevent complications from conditions like heart disease, diabetes, and obesity, which are among our most costly and widespread health problems. That is why my Administration is investing in the long-term health of our Nation by encouraging Americans to stay fit. Through interactive toolkits and programs, the President’s Council on Physical Fitness and Sports helps motivate citizens of all ages to incorporate physical activity into their lives. Visit Fitness.gov for more information and resources to get started.

Involvement in sports and recreational activities offer opportunities for young people to learn about teamwork, fair play, focus, and dedication. As they develop into athletes, they acquire time management, goal setting, and leadership skills. At any age, exercising with others also builds lasting friendships and helps keep individuals motivated and involved.

Our future depends on how we raise and prepare the next generation, and America’s epidemic of childhood obesity requires our immediate attention. The Department of Health and Human Services, the President’s Council on Physical Fitness and Sports, and other members of the White House Task Force on Childhood Obesity are partnering with First Lady Michelle Obama’s “Let’s Move” initiative to solve this epidemic within a generation. “Let’s Move” cultivates the appreciation of nutritious food and inspires kids to engage in physical activity. It empowers parents and caregivers by emphasizing their role in making healthy choices for their children and stresses the importance of access to nutritious foods in our schools and communities. Visit LetsMove.gov to learn more about this exciting campaign.

During National Physical Fitness and Sports Month, let us recommit to making healthy choices that will reduce our risk of chronic diseases and help our families lead longer, happier lives.

NOW, THEREFORE, I, BARACK OBAMA, President of the United States of America, by virtue of the authority vested in me by the Constitution and the laws of the United States, do hereby proclaim May 2010 as National Physical Fitness and Sports Month. I call upon all Americans to take control of their health and wellness by making physical activity, fitness, and sports participation an important part of their daily lives.

IN WITNESS WHEREOF, I have hereunto set my hand this twenty-ninth day of April, in the year of our Lord two thousand ten, and of the Independence of the United States of America the two hundred and thirty-fourth.

[FR Doc. 2010-10729

Filed 5-4-10; 8:45 am]

Billing code 3195-W0-P